CHEMICAL SAFETY AND HAZARD INVESTIGATION BOARD

Sunshine Act Meetings

TIME AND DATE: July 29, 2022, 1 p.m. EDT (2 hours).

PLACE: Public Meeting Hosted via Zoom. Access information is provided below: https://www.zoomgov.com/j/1618682477?pwd=L09Fa1l|R2|1NFVFNXUwT2dwWFV|QT09.

Meeting ID: 161 868 2477.

Passcode: 569066.

One tap mobile: +16692545252,,1618682477# US (San Jose), +16692161590,,1618682477# US (San Jose).

Dial by your location: +1 669 254 5252 US (San Jose), +1 669 216 1590 US (San Jose), +1 646 828 7666 US (New York), +1 551 285 1373 US.

Meeting ID: 161 868 2477.

Find your local number: https://www.zoomgov.com/u/admZHYbUH3.

STATUS: Open to the public.

MATTERS TO BE CONSIDERED: The Chemical Safety and Hazard Investigation Board (CSB) will convene a public meeting on Friday, July 29, 2022, at 1 p.m. EDT. This meeting serves to fulfill its quarterly July public meeting requirement. The Board will review the CSB's progress in meeting its mission and highlight current investigations and safety recommendations.

CONTACT PERSON FOR MORE INFORMATION: Hillary Cohen, Communications Manager, at public@csb.gov or (202) 446-8094. Further information about this public meeting can be found on the CSB website at: www.csb.gov.

SUPPLEMENTARY INFORMATION:

Background

The CSB is an independent federal agency charged with investigating incidents and hazards that result, or may result, in the catastrophic release of extremely hazardous substances. The agency's Board Members are appointed by the President and confirmed by the Senate. CSB investigations look into all aspects of chemical accidents and hazards, including physical causes such as equipment failure as well as inadequacies in regulations, industry standards, and safety management systems.

Public Participation

The meeting is free and open to the public. This meeting will only be available via ZOOM. Close captions (CC) will be provided. There will be an opportunity for public comment at the end of the meeting. To submit public comments for the record please email us at public@csb.gov.

Dated: July 7, 2022.
Tamara Qureshi,
Assistant General Counsel, Chemical Safety and Hazard Investigation Board.

[FR Doc. 2022-14934 Filed 7-8-22; 4:15 pm]

BILLING CODE 6350-01-P